Proclamation 9532 of October 28, 2016

National Diabetes Month, 2016

By the President of the United States of America

A Proclamation

More than 29 million Americans have diabetes—a disease in which the glucose levels in one's blood are higher than normal. Although the rate of new cases is falling, the numbers are still alarming. Diabetes is one of the leading causes of death in the United States and results in staggering health and financial costs for Americans. With a concentrated effort to reduce the number of new diagnoses and improve treatment and care for those living with this disease, we must continue making progress in the battle against this epidemic. Each year during National Diabetes Month, we resolve to support everyone battling this chronic disease, and we recommit to fighting it so that more Americans can lead a healthy life.

Diabetes can affect individuals of any age, gender, or background depending on risk factors, which can include a combination of genetics and lifestyle. Type 1 diabetes, often diagnosed in youth, affects people whose bodies do not produce enough insulin, a hormone needed to live. Type 2 diabetes occurs in people who are not able to produce enough insulin to meet their body's needs, and typically develops in adults—however, more young people today are being diagnosed with type 2 diabetes than ever before, and it is more commonly diagnosed among those who are obese or inactive. Both types can lead to health problems such as heart disease, blindness, and kidney failure. Additionally, roughly one-third of American adults have prediabetes—a condition in which their blood sugar levels are higher than normal, but not high enough to be diagnosed with diabetes—placing them at higher risk for other health conditions or for developing type 2 diabetes. Another form of diabetes, known as gestational diabetes, can develop in pregnant women, create complications during pregnancy, and increase chances of developing type 2 diabetes later in life for both mothers and their children.

Type 1 diabetes accounts for a smaller proportion of diagnosed cases of diabetes; over 90 percent of all diagnosed cases are type 2 diabetes. Individuals with type 1 diabetes need to monitor their blood sugar levels and take insulin every day to survive. Diabetes has no cure, but people with type 2 diabetes can manage their disease by following a healthy meal plan, increasing physical activity, taking prescribed medications, and quitting smoking if applicable. For individuals with prediabetes or overweight individuals at higher risk of diabetes, losing weight through healthy eating and regular physical activity can help prevent or delay type 2 diabetes. Americans with any type of diabetes should get regular checkups and work with health care professionals to learn more about this disease. Individuals at higher risk—particularly those who are overweight, older than 45, or have a family history of type 2 diabetes—should talk to their health care providers about their diabetes risk. African Americans, Hispanic Americans, American Indians, Asian Americans, and Pacific Islanders are also at higher risk of developing type 2 diabetes. I encourage all Americans to visit www.NDEP.NIH.gov to find resources available through the National Diabetes Education Program to help make and sustain healthy lifestyle and behavior changes.

Over the last 8 years, my Administration has worked to provide better care, prevention, and treatment for anyone suffering from diabetes. The Affordable Care Act (ACA) has required that insurers cover preventive services such as certain diabetes screenings without copays or deductibles, and seniors can now receive these screenings free of charge as well. Insurance companies can no longer deny individuals coverage because of a pre-existing condition, including a family history of diabetes, and children can now stay on a parent's health insurance plan until age 26. By supporting the Diabetes Prevention Program—the first preventive service model eligible for expansion under Medicare—the ACA has improved the quality of care, reduced health care costs, and helped prevent the onset of diabetes.

Nearly one in three American children is overweight or obese, causing a rise in the prevalence of type 2 diabetes among children. Unless we act, approximately one-third of all children born since the turn of the century will suffer from diabetes during their lifetimes. The First Lady's Let's Move! initiative has worked to reverse this childhood obesity trend and put children on a path to a healthy future during their earliest years by fostering environments that support healthy choices; promoting physical activity; providing healthier foods in our schools; and ensuring families have access to nutritious, affordable foods and the information they need to make healthy choices. We have also harnessed the American spirit of innovation through our Precision Medicine Initiative: By tailoring treatments to individuals based on personalized information such as genetics, we can move closer to curing diseases like diabetes and give more Americans the opportunity to live full, healthy lives.

Every year, too many Americans experience the consequences of diabetes—but in part because of the dedication of our Nation's health care providers, researchers, and advocates, we have made important strides in combating this disease, and we have reason to hope this progress will continue. This month, let us work to show every individual living with diabetes that they are not alone, and let us continue strengthening our investment in the fight against this disease.

NOW, THEREFORE, I, BARACK OBAMA, President of the United States of America, by virtue of the authority vested in me by the Constitution and the laws of the United States, do hereby proclaim November 2016 as National Diabetes Month. I call upon all Americans, school systems, government agencies, nonprofit organizations, health care providers, research institutions, and other interested groups to join in activities that raise diabetes awareness and help prevent, treat, and manage the disease.

IN WITNESS WHEREOF, I have hereunto set my hand this twenty-eighth day of October, in the year of our Lord two thousand sixteen, and of the Independence of the United States of America the two hundred and forty-first.

[FR Doc. 2016-26658

Filed 11-1-16; 11:15 am]

Billing code 3295-F7-P